NUCLEAR REGULATORY COMMISSION

[Docket No. 50-010; NRC-2026-1090]

Constellation Energy Generation, LLC; Dresden Nuclear Power Station, Unit 1; Exemption

AGENCY: Nuclear Regulatory Commission.

ACTION: Notice; issuance.

SUMMARY: The U.S. Nuclear Regulatory Commission (NRC, or Commission) has issued an exemption in response to a request from Constellation Energy Generation, LLC, to allow the completion of decommissioning beyond 60 years of permanent cessation of operations for the Dresden Nuclear Power Station, Unit 1.

DATES: The exemption was issued on February 19, 2026.

ADDRESSES: Please refer to Docket ID NRC-2026-1090 when contacting the NRC about the availability of information regarding this document. You may obtain publicly-available information related to this document using any of the following methods:

• Federal Rulemaking Website: Go to https://www.regulations.gov and search for Docket ID NRC-2026-1090. Address questions about Docket IDs in Regulations.gov to Bridget Curran; telephone: 301-415-1003; email: Bridget.Curran@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Tanya E. Hood, Office of Nuclear Material Safety and Safeguards, U.S. Nuclear Regulatory Commission, Washington, DC 20555-0001; telephone: 301-415-1387; email: Tanya.Hood@nrc.gov.

SUPPLEMENTARY INFORMATION: The text of the exemption is attached.

Dated: February 25, 2026.
For the Nuclear Regulatory Commission.
Tanya Hood,
Project Manager, Reactor Decommissioning Branch, Division of Decommissioning, Uranium Recovery and Waste Programs, Office of Nuclear Material Safety and Safeguards.

Attachment—Exemption

NUCLEAR REGULATORY COMMISSION

Docket No. 50-010; Constellation Energy Generation, LLC; Dresden Nuclear Power Station, Unit 1; Exemption

I. Background

By letter dated March 14, 2024 (Agencywide Documents Access and Management System Accession No. ML24074A437), as supplemented by letters dated July 22, 2024, July 31, 2024, and December 5, 2024 (ML24204A219, ML24213A313, and ML24340A271 respectively), Constellation Energy Generation, LLC (the licensee) submitted a request for an alternative decommissioning schedule for Dresden Nuclear Power Station, Unit 1 (Dresden Unit 1) that would allow the completion of decommissioning for Dresden Unit 1 in conjunction with the decommissioning of Dresden's operating units, Units 2 and 3, thereby extending decommissioning beyond 60 years of permanent cessation of operations.

The Dresden Nuclear Power Station is in Grundy County, IL and is composed of three reactor licenses: Dresden Unit 1 (License No. DPR-2), which is presently in a long-term storage condition for a permanently shut down nuclear power plant, referred to as SAFSTOR and is the subject of this request, along with Dresden Unit 2 (DPR-19) and Dresden Unit 3 (DPR-25), which are actively operating. Dresden Unit 1 is licensed pursuant to Section 104(b) of the Atomic Energy Act of 1954, as amended, and Title 10 of the Code of Federal Regulations (10 CFR) Part 50, Paragraph 50.82(a)(2) to possess but not operate the facility.

Dresden Unit 1 was a boiling water reactor that permanently ceased operations on October 31, 1978. In October 1984, a decision was made to decommission Dresden Unit 1 and a chemical decontamination of the primary system was completed. On July 23, 1986, the U.S. Nuclear Regulatory Commission (NRC or Commission) issued a license amendment to alter the Dresden Unit 1 operating license to possession only status. Between 1986 and 2006, various decommissioning activities were performed at Dresden Unit 1, including the transfer of the spent fuel to the onsite independent spent fuel storage installation (ISFSI); the September 1993 approval of the decommissioning plan (ML20057A646); the May 1998, submission by the Commonwealth Edison Company of the Dresden Post-Shutdown Decommissioning Activities Report (PSDAR) to the NRC (ML20248H086); and the revision of the Decommissioning Program Plan to the current Defueled Safety Analysis Report (DSAR) format. Since that time, Dresden Unit 1 has been monitored and controlled in SAFSTOR in accordance with the Facility Operating License, Technical Specifications as amended, and Decommissioning Plan.

II. Request/Action

The regulation at 10 CFR 50.82(a)(3) requires power reactor licensees to complete decommissioning within 60 years of permanent cessation of operations. The regulation provides that completion of decommissioning beyond 60 years will be considered by the Commission only when necessary to protect public health and safety, with site-specific factors considered when reviewing such requests, including the presence of other nuclear facilities at the site.

The licensee requested an alternative to the 60 year decommissioning schedule requirements in 10 CFR 50.82(a)(3) to decommission Dresden Unit 1 to coincide with the eventual decommissioning of Dresden Units 2 and 3. The licensee stated its alternative request “meets the evaluation factors in 10 CFR 50.82(a)(3) due to the potential impact on public health and safety with other nuclear facilities present at the site” and that “[t]here are site-specific factors, supporting the operation of Dresden Units, 2 and 3, that necessitate decommissioning of Dresden, Unit 1, beyond 60 years of permanent cessation of operations to best protect public health and safety.”

On September 30, 2025, the NRC issued subsequent renewed facility operating licenses for Dresden Units 2 and 3 (ML25233A275), which included the expiration dates of December 22, 2049, and January 12, 2051, respectively. The licensee is requesting extension of Dresden Unit 1 decommissioning completion and license termination to be concurrent with that of Dresden Units 2 and 3.

III. Discussion

Under 10 CFR 50.82(a)(3), the Commission will approve an alternative that provides for completion of decommissioning beyond 60 years of permanent cessation of operations only when necessary to protect public health and safety. In evaluating whether an alternative is necessary, the regulations provide that the Commission will consider factors such as unavailability of waste disposal capacity; or other site-specific factors affecting the licensee's capability to carry out decommissioning, including presence of other nuclear facilities at the site. Prior to this request for an alternative decommissioning schedule, Dresden Unit 1, was required to complete decommissioning by October 31, 2038.

The NRC staff's approach in evaluating the 10 CFR 50.82(a)(3) criteria is documented, in part, in SECY-24-0073, “Site-Specific Considerations for Review of Requests to Complete Power Reactor Decommissioning Beyond 60 Years from Permanent Cessation of Operations,” dated September 3, 2024 (ML24100A760). As explained in more detail below, the NRC has determined that the licensee has met the “only when necessary to protect public health and safety” criterion because the licensee demonstrated that Dresden Unit 1 decommissioning activities could result in site-specific impacts on public health and safety due to the increased risk to structures, systems, and components (SSCs) supporting the adjacent operating Dresden Units 2 and 3 and the associated security measures.

Presence of Other Nuclear Facilities

The licensee's request for an alternative decommissioning schedule was based on the potential impacts to public health and safety from decommissioning Dresden Unit 1, while there are two other operating nuclear facilities at the site. Specifically, the licensee noted that the proximity and interconnectivity of Dresden Unit 1 to the operating Units, Dresden Units 2 and 3, pose unique challenges to decommissioning Unit 1 while the remaining units continue to operate.

In support of its exemption request, the licensee noted that Dresden Unit 1 is structurally connected to Dresden Units 2 and 3. To complete decommissioning of Dresden Unit 1, several large components of Dresden Unit 1, including the reactor vessel, supporting reactor coolant systems, and steam supply systems, must be removed and shipped for disposal. Removal of these large components from Dresden Unit 1 while Dresden Units 2 and 3 continue to operate would be particularly challenging given the proximity and shared structures between Dresden Unit 1 and the operating units, Dresden Units 2 and 3. In support of its exemption request, the licensee noted that removal of the remaining large components and conducting other decommissioning activities at Dresden Unit 1 while Units 2 and 3 continue to operate would require the structural separation of the Main Control Room and Turbine Building to permit demolition of the Dresden Unit 1 Turbine Building structure. The licensee's assessment determined that attempting to separate the structures was prohibitive as the Main Control Room resides in both Dresden Unit 1 and Dresden Unit 2 Turbine Buildings, rendering the Dresden Unit 1 Turbine Building necessary to support safe operation of Units 2 and 3.

The licensee also indicated that the operating Dresden Units 2 and 3, have underground cable tunnels that are in close proximity to the Dresden Unit 1 containment structure. These various buried power and mechanical systems within the previous operating area of Dresden Unit 1, create site characteristics not normally encountered during decommissioning activities. In this instance, the close proximity of the underground cable tunnels to the Dresden Unit 1 buildings that would be decommissioned would require relocation. Physical relocation of these systems would require new robust structures, installation of redundant equipment, and space outside of Dresden Unit 1 operating areas being decommissioned.

Additionally, the licensee notes that the entire site containing Dresden Units 1, 2, and 3, along with the associated ISFSI, are within a common site Protected Area under the site Physical Security Plan, which meets the physical protection requirements of 10 CFR part 73 for operating power reactors. Generally, as power reactors begin decommissioning, the sites transition to security plans meeting 10 CFR part 72 for ISFSIs and 10 CFR part 37 for security of radioactive materials. However, the licensee states that under both SAFSTOR and during dismantlement of Dresden Unit 1, due to the physical site characteristics, implementation of 10 CFR part 37 and 72 security plans for Dresden Unit 1 would not be feasible given the proximity and interconnectivity of Dresden Unit 1 to Dresden Units 2 and 3. These unique physical site characteristics make isolating areas of Dresden Unit 1 for decommissioning, and for implementation of a 10 CFR part 72 and Part 37 security plan for Dresden Unit 1, impractical. Therefore, according to the licensee, and consistent with the licensee's current decommissioning strategy as stated in the Dresden Unit 1 PSDAR, delaying the decommissioning of Dresden Unit 1 to coincide with shutdown of Dresden Units 2 and 3 would permit the implementation of a 10 CFR part 72 and Part 37 site-wide Physical Security Plan during decommissioning where common decommissioning techniques would be utilized across all units to provide for safe and efficient conduct of decommissioning operations.

In evaluating this information, the NRC staff has determined that the interconnectivity and proximity of Dresden Unit 1 to the operating Dresden Units 2 and 3, as well as the need to maintain a combined site Physical Security Plan that encompasses all the Units, are site specific factors that affect the licensee's capability to safely carry out decommissioning of Dresden Unit 1 while Dresden Units 2 and 3 continue to operate. Therefore, the presence of the operating Dresden Units 2 and 3 at the site, supports an alternative decommissioning schedule for Dresden Unit 1, pursuant to 50.82(a)(3).

Capacity and Capability of the Power Systems

The licensee raised concerns with potential impacts to the electric power systems and the mechanical systems if Dresden Unit 1 were required to be decommissioned on the original 60-year schedule. According to the licensee, the potential damage to a station blackout (SBO) cable tunnel could result in loss of the SBO function to one or both of the operating Units for an extended duration. The licensee explained that, although probability can be reduced through mitigation, the consequence of this risk represents an increased risk to protect public health and safety. The licensee stated that loss of the Dresden Units 2 and 3 SBO function would result in reduced defense-in-depth for the mitigation capability of the site during a loss of offsite power transient. Given the location of the SBO cable tunnel to Dresden Unit 1, common decommissioning techniques such as structure/site wide electrical isolation, structure/site wide support system isolation (e.g., air, water, fire suppression), heavy equipment demolition and heavy equipment excavation, could not be executed due to the risk of damaging the SBO cable tunnel during decommissioning of Dresden Unit 1, which could negatively impact the operation of Dresden Units 2 and 3.

According to the licensee, decommissioning of Dresden Unit 1 would also require relocation of 4 kilovolt and 480 volt buses and distribution lines throughout the Dresden Unit 1 Turbine Building because this distribution system supports Dresden Units 2 and 3 SBO equipment and provides industrial power to a large portion of the site. Physical relocation would require new robust structures, installation of redundant equipment, and space outside of Dresden Unit 1 operating areas being decommissioned. To mitigate potential effects of demolition activities such as impacting sensitive equipment within proximity of, and inadvertent damage to electric power or mechanical systems not isolated, detailed isolation and demolition plans would be required. The licensee indicated that this would involve assessing the status of each mechanical and electrical component by area to ensure decommissioning activities do not adversely affect operation of Dresden Units 2 and 3, or personal safety of individuals executing decommissioning activities.

Based on this information, the NRC staff has determined that decommissioning Dresden Unit 1 would impact the capacity and capability of the electric power or mechanical systems of the operating Dresden Units 2 and 3. Therefore, the NRC staff finds that the capacity and capability of the power systems at the Dresden Nuclear Power Station is a factor that, in combination with other factors discussed above, supports an alternative decommissioning schedule pursuant to 50.82(a)(3).

IV. Environmental Review Under the National Environmental Policy Act

The NRC staff has determined that the proposed exemption can be categorically excluded under 10 CFR 51.22(c)(25) from NRC requirements under the National Environmental Policy Act to conduct an environmental assessment or an environmental impact statement. The categorical exclusion in 10 CFR 51.22(c)(25) states that the granting of an exemption from the requirements of any NRC regulation may be categorically excluded as long as the conditions of 10 CFR 51.22(c)(25)(i)-(vi) are met.

In this instance, the NRC staff determined all the conditions of 10 CFR 51.22(c)(25)(i)-(v) have been satisfied. Approving this exemption would not: result in conditions that could significantly increase the probability or consequences of an accident previously evaluated or create the possibility of a new or different kind of accident; result in a significant change in the types or a significant increase in the amounts of any effluents that may be released offsite; result in increases to public and occupational radiation exposure; result in a significant construction impact; or result in a significant increase in the potential for or consequences from radiological accidents. Approval in this instance only continues the current status and activities at the facility. During the duration of the decommissioning delay, the licensee will maintain Dresden Unit 1 in SAFSTOR condition in accordance with the Updated Final Safety Analysis Report, technical specifications, and licensee procedures for Dresden Unit 1. The licensee will continue ongoing monitoring activities, such as capturing any identified degradations in structural inspection reports and the Corrective Action Program for resolution.

Finally, the NRC staff has determined that the request satisfies 10 CFR 51.22(c)(25)(vi) because the exemption applies to the following specific activities associated with Dresden Unit 1 that support the continued maintenance of Dresden Unit 1 in SAFSTOR into the period approved in the alternative decommissioning schedule: (A) recordkeeping requirements; (B) reporting requirements; (C) inspection and surveillance requirements; (D) equipment servicing or maintenance scheduling requirements; (F) safeguard plans, and materials control and accounting inventory scheduling requirements; and (G) scheduling requirements.

Based on the above assessment, in accordance with 10 CFR 51.22(b), no environmental impact statement or environmental assessment need be prepared in connection with the NRC's consideration of this exemption request.

VII. Conclusions

For the reasons described above, the NRC concludes that, pursuant to 10 CFR 50.82(a)(3), there are site-specific factors affecting the licensee's capability to carry out decommissioning at Dresden Unit 1 because of the presence of the operating units at the site such that an alternative decommissioning schedule is necessary to protect public health and safety. The NRC's determination is based on the multiple connections that exist between Dresden Unit 1 and the operating units, Dresden Units 2 and 3, and the associated site-wide security measures. Therefore, the NRC grants Constellation Energy Generation, LLC, a one-time exemption from 10 CFR 50.82(a)(3) to allow the licensee an alternative decommissioning schedule that requires the decommissioning of Dresden Unit 1, 20 years after the permanent cessation of operations of either Dresden Units 2 or 3, whichever is earlier, and in no case beyond 2071. With this approval, the licensee's SAFSTOR program will continue for the extended period of decommissioning and the licensee should update its program accordingly. For the period beyond 60 years, the NRC will continue its inspection of the SAFSTOR program as outlined in the Updated Final Safety Analysis Report, technical specifications, and licensee procedures.

The exemption will be effective upon issuance.

Dated: this 19th day of February 2026.

For the Nuclear Regulatory Commission.

/RA/

Jane Marshall,

Director, Division of Decommissioning, Uranium Recovery, and Waste Programs, Office of Nuclear Material Safety and Safeguards.

[FR Doc. 2026-03957 Filed 2-26-26; 8:45 am]

BILLING CODE 7590-01-P